DEPARTMENT OF THE INTERIOR

Bureau of Reclamation

[INT-DES-04-3]

Platte River Recovery Implementation Program

AGENCY: Bureau of Reclamation, Interior.

ACTION: Extension of review and comment period for draft environmental impact statement (DEIS).

SUMMARY: The notice of availability for the DEIS was published in the Federal Register on January 26, 2004 (69 FR 3600), with the public review and comment period originally scheduled to end April 2, 2004. At the request of the State of Colorado, the public review and comment period is being extended to September 20, 2004.

DATES: Submit comments on the DEIS on or before September 20, 2004.

ADDRESSES: Written comments on, or requests for copies of, the DEIS should be addressed to the Platte River EIS Office (PL-100), PO Box 25007, Denver, Colorado, 80225-0007, telephone 303-445-2096, or by sending an email to platte@prs.usbr.gov. A copy of the DEIS Summary, and/or technical reports or appendices may also be obtained by calling 303-445-2096. The DEIS and Summary is also accessible at http://www.platteriver.org.

FOR FURTHER INFORMATION CONTACT: Lynn Holt, Platte River EIS Office 303-445-2096, or by sending an email to platte@prs.usbr.gov.

SUPPLEMENTARY INFORMATION: Reclamation and the Fish and Wildlife Service (Service) have prepared this DEIS to analyze the impacts of the First Increment (13 years) of a proposed Recovery Implementation Program (Program) to benefit the target species (whooping crane, interior least tern, piping plover, and pallid sturgeon) and their habitat in the Platte River Basin and to provide compliance with the Endangered Species Act (ESA) for certain historic and future water uses in the Platte River Basin in Colorado, Nebraska, and Wyoming. The habitat objectives of the proposed Program include: improving flows in the Central Platte River through water re-regulation and conservation/supply projects; and protecting, restoring, and maintaining at least 10,000 acres of habitat in the Central Platte River area between Lexington and Chapman, Nebraska. The DEIS analyzes the impacts of four alternatives to implement the Program.

The programmatic DEIS focuses on impacts that the Program may have on hydrology, water quality, land, target species and their habitat, other species, hydropower, recreation, economics, and social and cultural resources. Subsequent National Environmental Policy Act and ESA documents required for implementation of specific Program actions will be tiered off of this document.

Public Disclosure Statement

Comments received in response to this notice will become part of the administrative record for this project and are subject to public inspection. Comments, including names and home addresses of respondents, will be available for public review. Individual respondents may request that Reclamation withhold their home address from public disclosure, which will be honored to the extent allowable by law. There also may be circumstances in which Reclamation would withhold a respondent's identity from public disclosure, as allowable by law. If you wish to have your name and/or address withheld, you must state this prominently at the beginning of your comment. Reclamation will make all submissions from organizations or businesses and from individuals identifying themselves as representatives or officials of organizations or businesses available for public disclosure in their entirety.

Dated: July 29, 2004.
Mary Josie Blanchard,
Deputy Director, Environmental Policy & Compliance.

[FR Doc. 04-18558 Filed 8-12-04; 8:45 am]

BILLING CODE 4310-MN-P